DEPARTMENT OF ENERGY

International Energy Agency Meetings

AGENCY: Department of Energy.

ACTION: Notice of meetings.

SUMMARY: The Industry Advisory Board (IAB) to the International Energy Agency (IEA) will meet on October 17 and 18, 2012, at the headquarters of the IEA in Paris, France in connection with a joint meeting of the IEA's Standing Group on Emergency Questions (SEQ) and the IEA's Standing Group on the Oil Market (SOM) on October 17; and in connection with a meeting of the SEQ on October 18.

DATES: October 17-18, 2012.

ADDRESSES: 9, rue de la Fédération, Paris, France.

FOR FURTHER INFORMATION CONTACT: Priya Aiyar, Deputy General Counsel for Environment and Nuclear Programs, Department of Energy, 1000 Independence Avenue SW., Washington, DC 20585, 202-586-5072.

SUPPLEMENTARY INFORMATION: In accordance with section 252(c)(1)(A)(i) of the Energy Policy and Conservation Act (42 U.S.C. 6272(c)(1)(A)(i)) (EPCA), the following notice of meetings is provided:

Meetings of the Industry Advisory Board (IAB) to the International Energy Agency (IEA) will be held at the headquarters of the IEA, 9, rue de la Fédération, Paris, France, on October 17, 2012, beginning at 9:30 a.m., and continuing on October 18. The purpose of this notice is to permit attendance by representatives of U.S. company members of the IAB at a joint meeting of the IEA's Standing Group on Emergency Questions (SEQ) and the IEA's Standing Group on the Oil Market (SOM) which is scheduled to be held at the headquarters of the IEA on October 17 commencing at 9:30 a.m.; and a meeting of the SEQ, which is scheduled to be held at the headquarters of the IEA on October 18 commencing at 9:30 a.m. The IAB will also hold a preparatory meeting among company representatives at the same location at 8:30 a.m. on October 18. The agenda for this preparatory meeting is to review the agendas for the SEQ meeting on October 18.

The agenda of the joint session of the SEQ and the SOM on October 17 is under the control of the SEQ and the SOM. It is expected that the SEQ and the SOM will adopt the following agenda:

1. Adoption of the Agenda

2. Approval of the Summary Record of the June 2012 Joint Session

3. Reports on Recent Oil Market and Policy Developments in IEA Countries

4. The Currrent Oil Market Situation

5. The Program of Work and Budget 2013-2014

6. The Medium-Term Oil Market Report 2012

7. Request from the IEA Governing Board to Study Existing Instruments

8. Other Business

—Tentative Schedule of Upcoming SEQ and SOM Meetings:

—November 26-28, 2012 (ERE6)

—March 26-27, 2013

—June 24-26, 2013

The agenda of the SEQ meeting on October 18 is under the control of the SEQ. It is expected that the SEQ will adopt the following agenda:

1. Adoption of the Agenda

2. Approval of the Summary Record of the 136th Meeting

3. Status of Compliance with IEP Stockholding Commitments

4. Emergency Response Review Program

—Schedule of Emergency Response Reviews

—Emergency Response Review of Germany

—Questionnaire Response of Turkey

—Questionnaire Response of Austria

—Questionnaire Response of Japan

—Questionnaire Response of the United States of America

5. Emergency Response Exercise 6

—Update on preparations for ERE6

6. Emergency Response Measures

—Costs and Benefits of Stockholding (Progress Report)

7. Electricity Security

—Electricity Security Assessment Implementation

—Report on India's 2012 Electricity Blackouts

8. Policy and Other Developments in Member Countries

—Mid-Term Emergency Response Review of the United Kingdom

—Mid-Term Emergency Response Review of the Czech Republic

9. Report from the Industry Advisory Board

10. Activities with International Organizations and Non-Member Countries

—ASEAN (APSA)

—Thailand

—Chile

—Estonia

—China/India

11. Documents for Information

—Emergency Reserve Situation of IEA Member Countries on July 1, 2012

—Base Period Final Consumption: 3Q 2011-2Q 2012

—Updated Emergency Contacts List

12. Other Business

—Tentative Schedule of Next Meetings:

—November 26-28, 2012 (ERE6)

—March 26-27, 2013

—June 24-26, 2013

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, October 4, 2012.
Priya Aiyar,
Deputy General Counsel for Environment and Nuclear Programs.

[FR Doc. 2012-24890 Filed 10-9-12; 8:45 am]

BILLING CODE 6450-01-P